DEPARTMENT OF HOMELAND SECURITY

Coast Guard

33 CFR Part 165

[Docket No. USCG-2016-0461]

Safety Zones; Annual Events in the Captain of the Port Detroit Zone

AGENCY: Coast Guard, DHS.

ACTION: Notice of enforcement of regulation.

SUMMARY: The Coast Guard will enforce various safety zones for annual marine events in the Captain of the Port Detroit zone from 9:20 p.m. on May 29, 2016 through 9:45 p.m. on September 4, 2016. Enforcement of these zones is necessary and intended to ensure safety of life on the navigable waters immediately prior to, during, and immediately after these fireworks events. During the aforementioned period, the Coast Guard will enforce restrictions upon, and control movement of, vessels in a specified area immediately prior to, during, and immediately after fireworks events. During each enforcement period, no person or vessel may enter the respective safety zone without permission of the Captain of the Port.

DATES: The regulations in 33 CFR 165.941 will be enforced without actual notice at various dates and times between 9:20 p.m. on June 7, 2016 through 9:45 p.m. on September 4, 2016. For purposes of enforcement, actual notice will be used from June 1, 2016 until June 7, 2016.

FOR FURTHER INFORMATION CONTACT: If you have questions on this document, call or email PO1 Todd Manow, Prevention, U.S. Coast Guard Sector Detroit, 110 Mount Elliot Ave., Detroit MI, 48207; telephone (313)568-9580; email Todd.M.Manow@uscg.mil.

SUPPLEMENTARY INFORMATION: The Coast Guard will enforce the safety zones listed in 33 CFR 165.941, Safety Zones; Annual Events in the Captain of the Port Detroit Zone, at the following dates and times for the following events, which are listed in chronological order by date and time of the event:

(1) Catawba Island Club Memorial Day Fireworks, Catawba Island, OH. The safety zone listed in § 165.941(a)(56) will be enforced from 9:20 p.m. to 9:40 p.m. on May 29, 2016.

(2) Bay-Rama Fishfly Festival Fireworks, New Baltimore, MI. The safety zone listed in § 165.941(a)(29), all waters of Lake St. Clair-Anchor Bay, off New Baltimore City Park, within a 300-yard radius of the fireworks launch site located at position 42°41′ N., 082°44′ W. (NAD 83), usually on an evening during the first week in June, will be enforced from 9 p.m. to 11 p.m. on June 23, 2016.

(3) St. Clair Shores Fireworks, St. Clair Shores, MI. The safety zone listed in § 165.941(a)(39) will be enforced from 9:45 p.m. to 11 p.m. on June 24, 2016.

(4) Washington Township Firefighters Summerfest, Toledo, OH. The safety zone listed in § 165.941(a)(2) will be enforced from 8:30 p.m. to 10:30 p.m. on June 25, 2016.

(5) Sigma Gamma Fireworks, Grosse Pointe Farms, MI. The safety zone listed in § 165.941(a)(51) will be enforced from 9:45 p.m. to 10:45 p.m. on June 27, 2016.

(6) Ford (formerly Target) Fireworks, Detroit, MI. The first safety zone, listed in § 165.941(a)(50)(i)(A), all waters of the Detroit River bounded by the arc of a circle with a 900-foot radius with its center in position 42°19′23″ N., 083°04′34″ W. (NAD 83), on the waterfront area adjacent to 1351 Jefferson Avenue, Detroit, Michigan will be enforced from 8 a.m. on June 24, 2016 to 8 p.m. on June 27, 2016.

The second safety zone, listed in § 165.941(a)(50)(i)(B), a portion of the Detroit River bounded on the South by the International Boundary line, on the West by 083°03′30″ W. (NAD 83), on the North by the City of Detroit shoreline and on the East by 083°01′15″ W. (NAD 83), will be enforced from 8 p.m. to 11:55 p.m. on June 27, 2016.

The third safety zone listed in § 165.941(a)(50)(i)(C), a portion of the Detroit River bounded on the South by the International Boundary line, on the West by the Ambassador Bridge, on the North by the City of Detroit shoreline, and on the East by the downstream end of Belle Isle, will be enforced from 6 p.m. to 11:59 p.m. on June 27, 2016.

(7) Roostertail Fireworks, Detroit, MI. The safety zone listed in § 165.941(a)(1), all waters of the Detroit River within a 300-foot radius of the fireworks launch site on shore near the Roostertail Restaurant, will be enforced from 10 p.m. to 10:30 p.m. on June 27, 2015. In the event of inclement weather on the evening of June 27, 2016, this safety zone will be enforced from 10 p.m. to 10:30 p.m. on June 28, 2016.

(8) Bay City Fireworks Festival, Bay City, MI. The safety zone listed in § 165.941(a)(53), all waters of the Saginaw River near Bay City, MI, from the Veteran's Memorial Bridge south approximately 1000-yards to the River Walk Pier, will be enforced from 8 p.m. to 10:30 p.m. on June 30, and July 1 and 2, 2016. In the case of inclement weather on any scheduled day, this safety zone will be enforced from 8 p.m. to 10:30 p.m. on July 3, 2016.

(9) Lexington Independence Festival Fireworks, Lexington, MI. The safety zone listed in § 165.941(a)(42), all waters of Lake Huron within a 300-yard radius of the fireworks barge located 300 yards east of the Lexington break wall, will be enforced from 10 p.m. to 10:30 p.m. on July 1, 2016. In the case of inclement weather on July 1, 2016, this safety zone will be enforced from 10 p.m. to 10:30 p.m. on July 2, 2016.

(10) Catawba Island Club Fireworks, Catawba Island, OH. The safety zone listed in § 165.941(a)(21) will be enforced from 9:30 p.m. to 09:50 p.m. on July 1, 2016.

(11) Harrisville Fireworks, Harrisville, MI. The safety zone listed in § 165.941(a)(7), a 450-foot radius of the fireworks launch site located at the end of the break wall at the Harrisville harbor, will be enforced from 10 p.m. to 11 p.m. on July 2, 2016.

(12) Grosse Ile Yacht Club Fireworks, Grosse Ile, MI. The safety zone listed in § 165.941(a)(44), all waters of the Detroit River within a 300-yard radius of the fireworks launch site located at the Grosse Ile Yacht Club at position 42°06′ N., 083°09′ W. (NAD 83), will be enforced from 9:45 p.m. to 10:30 p.m. on July 2, 2016. In the case of inclement weather on July 2, 2016, this safety zone will be enforced from 9:45 p.m. to 10:30 p.m. on July 3, 2016.

(13) Luna Pier Fireworks Show, Luna Pier, MI. The safety zone listed in § 165.941 (a)(16) will be enforced from 9:30 p.m. to 11 p.m. on July 2, 2016.

(14) Red, White and Blues Bang Fireworks, Huron, OH. The safety zone listed in § 165.941(a)(22) will be enforced between from 10:30 p.m. until 10:45 p.m. on July 2, 2016.

(15) Bay Point Fireworks Display, Marblehead, OH. The safety zone listed in § 165.941(a)(58) will be enforced from 10 p.m. to 10:30 p.m. on July 2 and 3, 2016.

(16) Algonac Pickerel Tournament Fireworks, Algonac, MI. The safety zone listed in § 165.941(a)(37), all waters of the St. Clair River, within a 300-yard radius of the fireworks barge located at position 42°37′ N., 082°32′ W. (NAD 83), North of Russell Island, will be enforced from 10 p.m. to 10:30 p.m. on July 2, 2016. In the case of inclement weather on July 2, 2016, this safety zone will be enforced from 10 p.m. to 10:30 p.m. on July 3, 2016.

(17) Port Sanilac Fireworks, Port Sanilac, MI. The safety zone listed in § 165.941(a)(38) will be enforced from 10 p.m. to 11 p.m. on July 2, 2016.

(18) Grosse Pointe Farms Fireworks, Grosse Pointe Farms, MI. The safety zone listed in § 165.941(a)(35), all waters of Lake St. Clair, within a 300-yard radius of the fireworks launch site at position 42°23.85′ N., 082°53.25′ W. (NAD 83), at a private park at Harbor Hill and Lake Shore Rd, will be enforced from 10 p.m. to 10:45 p.m. on July 2, 2016.

(19) Oscoda Township Fireworks, Oscoda, MI. The safety zone listed in § 165.941(a)(32) will be enforced from 10 p.m. to 10:30 p.m. on July 4, 2016. In the case of inclement weather on July 4, 2016, this safety zone will be enforced from 10 p.m. to 10:30 p.m. on July 5, 2016.

(20) Lakeside July 4th Fireworks, Lakeside, OH. The safety zone listed in § 165.941(a)(20) will be enforced from 9:45 p.m. to 10:30 p.m. on July 4, 2016.

(21) Grosse Pointe Yacht Club 4th of July Fireworks, Grosse Pointe Shores, MI. The safety zone listed in § 165.941(a)(41), all U.S. waters of the Lake St. Clair, within a 300 yard radius of position 42°26′ N., 082°52′ W. (NAD 83), approximately 500 feet east of the Grosse Point Yacht Club, will be enforced from 10 p.m. to 10:30 p.m. on July 4, 2016. In the case of inclement weather on July 4, 2016, this safety zone will be enforced from 10 p.m. to 10:30 p.m. on July 5, 2016.

(22) Belle Maer Harbor 4th of July Fireworks, Harrison Township, MI. The safety zone listed in § 165.941(a)(46), all U.S. waters of Lake St. Clair, within a 400 yard radius of position 42°36′30″ N., 082°47′40″ W. (NAD 83), will be enforced from 10 p.m. to 10:30 p.m. on July 4, 2016. In the case of inclement weather on July 4, 2016, this safety zone will be enforced from 10 p.m. to 10:30 p.m. on July 5, 2016.

(23) Port Austin Fireworks, Port Austin, MI. The safety zone listed in § 165.941(a)(33), all waters of Lake Huron within a 300-yard radius of the fireworks launch site, at position 42°03′ N., 082°59′ W. (NAD 83), off of the Port Austin break wall, will be enforced from 10 p.m. to 10:30 p.m. on July 4, 2016. In the case of inclement weather on July 4, 2016, this safety zone will be enforced from 10 p.m. to 10:30 p.m. on July 5, 2016.

(24) City of St. Clair Fireworks, St. Clair, MI. The safety zone listed in § 165.941(a)(31) will be enforced from 10 p.m. to 10:45 p.m. on July 4, 2016. In the case of inclement weather on July 4, 2016, this safety zone will be enforced from 10 p.m. to 10:45 p.m. on July 5, 2016.

(25) Tawas City 4th of July Fireworks, Tawas City, MI. The safety zone listed in § 165.941(a)(47), all U.S. waters of Lake Huron, within a 300 yard radius of position 44°16′ N., 083°30′ W. (NAD 83), 2000 feet west of the State Dock in East Tawas, will be enforced from 10 p.m. to 11 p.m. on July 4, 2016.

(26) Huron Riverfest Fireworks, Huron, OH. The safety zone listed in § 165.941(a)(23) will be enforced between from 10:15 p.m. until 10:30 p.m. on July 8, 2016.

(28) Marine City Maritime Festival Fireworks, Marine City, MI. The safety zone listed in § 165.941(a)(13), all waters of the St. Clair River within a 500-foot radius of the fireworks launch site located at position 42°43.15′ N., 082°29.2′ W. (NAD 83), approximately 500 feet offshore from the intersection of Pearl St. and N. Water St, will be enforced from 10 p.m. to 10:30 p.m. on August 5, 2016. In the case of inclement weather on August 5, 2016, this safety zone will be enforced from 10 p.m. to 10:30 p.m. on August 6, 2016.

(29) Catawba Island Club Fireworks, Catawba Island, OH. The safety zone listed in § 165.941(a)(28) will be enforced from 9:15 p.m. to 9:45 p.m. on September 4, 2016.

Under the provisions of § 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port before transits will be authorized. Approvals will be granted on a case by case basis. The Captain of the Port may be contacted via U.S. Coast Guard Sector Detroit on channel 16, VHF-FM. The Coast Guard will give notice to the public via Local Notice to Mariners and VHF radio broadcasts that the regulation is in effect.

This document is issued under authority of § 165.941 and 5 U.S.C. 552(a). If the Captain of the Port determines that any of these safety zones need not be enforced for the full duration stated in this document, he may suspend such enforcement and notify the public of the suspension via a Broadcast Notice to Mariners.

Dated: June 1, 2016.
Scott B. Lemasters,
Captain, U.S. Coast Guard, Captain of the Port Detroit.

[FR Doc. 2016-13324 Filed 6-6-16; 8:45 am]

BILLING CODE 9110-04-P